DEPARTMENT OF COMMERCE

Foreign-Trade Zones Board

[B-61-2023]

Production Activity Not Authorized; Foreign-Trade Zone (FTZ) 26; Mohawk Carpet Distribution, LLC; (Machine-Made Woven and Tufted Rugs of Polypropylene); Calhoun and Sugar Valley, Georgia

On November 28, 2023, Georgia Foreign-Trade Zone, Inc., grantee of FTZ 26, submitted a notification of proposed production activity to the FTZ Board on behalf of Mohawk Carpet Distribution, LLC, within FTZ 26, in Calhoun and Sugar Valley, Georgia.

The notification was processed in accordance with the regulations of the FTZ Board (15 CFR part 400), including notice in the Federal Register inviting public comment (88 FR 84302, December 5, 2023). On March 27, 2024, the applicant was notified of the FTZ Board's decision that further review of the activity is warranted. The production activity described in the notification was not authorized. If the applicant wishes to seek authorization for this activity, it will need to submit an application for production authority, pursuant to section 400.23.

Dated: March 27, 2024.
Elizabeth Whiteman,
Executive Secretary.

[FR Doc. 2024-06842 Filed 3-29-24; 8:45 am]

BILLING CODE 3510-DS-P